NUCLEAR REGULATORY COMMISSION

[Docket No. 50-336; NRC-2017-0197]

Dominion Nuclear Connecticut, Inc.; Millstone Power Station, Unit No. 2

AGENCY: Nuclear Regulatory Commission.

ACTION: Environmental assessment and finding of no significant impact; issuance.

SUMMARY: The U.S. Nuclear Regulatory Commission (NRC) is issuing an environmental assessment (EA) and finding of no significant impact (FONSI) regarding the request for regulatory exemption from specific requirements that would allow the use of operator manual actions related to loss of instrument air regarding Renewed Facility Operating License No. DPR-65 held by Dominion Nuclear Connecticut, Inc. (Dominion, the licensee) for the operation of Millstone Power Station, Unit No. 2 (Millstone 2).

DATES: The EA and FONSI referenced in this document is available on September 28, 2017.

ADDRESSES: Please refer to Docket ID NRC-2017-0197 when contacting the NRC about the availability of information regarding this document. You may obtain publicly-available information related to this document using any of the following methods:

• Federal Rulemaking Web site: Go to http://www.regulations.gov and search for Docket ID NRC-2017-0197. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. For the convenience of the reader, the ADAMS accession number for each document referenced in this document (if it is available in ADAMS) is provided in a table in the “Availability of Documents” section.

• NRC's PDR: You may examine and purchase copies of public documents at the NRC's PDR, Room 01-F21, One White Flint North, 11555 Rockville Pike, Rockville, Maryland 20852.

FOR FURTHER INFORMATION CONTACT: Richard Guzman, Office of Nuclear Reactor Regulation, U.S. Nuclear Regulatory Commission, Washington, DC 20555-0001; telephone: 301-415-1030; email: Richard.Guzman@nrc.gov.

SUPPLEMENTARY INFORMATION:

I. Introduction

The NRC is considering issuance of an exemption from certain requirements from section III.G.2 of appendix R to part 50 of title 10 of the Code of Federal Regulations (10 CFR), “Fire Protection Program for Nuclear Power Facilities Operating Prior to January 1, 1979,” for Renewed Facility Operating License No. DPR-65 issued to the licensee for operation of Millstone 2, located in New London County, Connecticut.

In accordance with 10 CFR 51.21, the NRC has prepared an EA that analyzes the environmental effects of the proposed regulatory exemption. Based on the results of the EA, and in accordance with 10 CFR 51.32, the NRC has prepared a FONSI for the proposed action.

II. Environmental Assessment

Description of the Proposed Action

In its application dated October 28, 2016, the licensee requested an exemption from certain requirements pertaining to NRC fire regulations contained in appendix R to 10 CFR part 50. The proposed action would exempt Millstone 2 from these requirements and allow the licensee to use alternate methods than those specified in appendix R to 10 CFR part 50 to achieve and maintain hot shutdown conditions for affected initiating fire areas with consideration of a loss of instrument air. Specifically, the proposed action would allow the licensee to use operator manual actions (OMAs) related to loss of instrument air at Millstone 2 in lieu of the requirements contained in section III.G.2 of appendix R to 10 CFR part 50.

Need for the Proposed Action

A regulatory exemption to section III.G.2 of appendix R to 10 CFR part 50 is needed to allow Millstone 2 to use alternate methods than those specified in appendix R to 10 CFR part 50 to achieve and maintain hot shutdown conditions for affected initiating fire areas with consideration of a loss of instrument air.

Regulatory Issue Summary 2006-10, “Regulatory Expectations with Appendix R, Section III.G.2, Operator Manual Actions,” documents the NRC position on the use of OMAs as part of a compliance strategy to meet the requirements of section III.G.2 of appendix R. The NRC requires plants which credit manual actions for regulatory compliance with section III.G.2 of appendix R to obtain NRC approval for those actions in accordance with the requirements of 10 CFR part 50.12, “Specific Exemptions.”

The licensee originally submitted an exemption request for OMAs contained in the Millstone 2 Appendix R Compliance Report in its letter dated June 30, 2011. The licensee subsequently removed four OMAs from that exemption request related to specific fire areas by letter dated February 29, 2012, because loss of instrument air was not a postulated event. The NRC approved the requested exemption, as revised, by letter dated December 18, 2012.

During the 2016 triennial fire inspection at Millstone 2, it was identified that a loss of offsite power will result in a loss of instrument air prior to the emergency diesel generators starting and that instrument air does not automatically restart and cannot be manually started from the control room. The intent of 10 CFR part 50, appendix R, section III.G.2, is to ensure one train of systems necessary to achieve and maintain hot shutdown will remain available in the event of a fire. At Millstone 2, instrument air is a single train system and, therefore, does not meet appendix R, section III.G.2 requirements because there is no redundant train. A loss of instrument air will result in both atmospheric dump valves (ADVs) failing closed. Instrument air is necessary to operate the ADVs and support decay heat removal. The four OMAs (OMAs 1, 9, 10, and 11) subject to this exemption request provide assurance for the use of alternate methods than those specified in appendix R to 10 CFR part 50 to achieve and maintain hot shutdown conditions for affected initiating fire areas with consideration of a loss of instrument air. As a result, the licensee is submitting this exemption request for those OMAs (OMAs 1, 9, 10, and 11) related to a loss of instrument air for certain affected initiating fire areas (R-9, R-10, R-13, and R-14).

Environmental Impacts of the Proposed Action

The NRC has completed its evaluation of the proposed action. The proposed action consists of the NRC granting Millstone 2 a regulatory exemption for the use of alternate methods than those specified in appendix R to 10 CFR part 50 to achieve and maintain hot shutdown conditions for affected initiating fire areas with consideration of a loss of instrument air. Specifically, the regulatory exemption is necessary to allow the use of OMAs related to loss of instrument air in lieu of the requirements contained in section III.G.2 of appendix R to 10 CFR part 50.

The proposed changes would have no direct impacts on land use or water resources, including terrestrial and aquatic biota as the proposed action involves no new construction or modification of plant operational systems. There would be no changes to the quality or quantity of non-radiological effluents. No changes to the plant's National Pollutant Discharge Elimination System permit are needed. No changes in ambient air quality would be expected. In addition, there would be no noticeable effect on socioeconomic conditions in the region, no environment justice impacts, and no impacts to historic and cultural resources. Therefore, there would be no significant non-radiological impacts associated with the proposed action.

The NRC has concluded that the proposed action would not significantly affect plant safety and would not have a significant adverse effect on the probability of an accident occurring. There would be no change to radioactive effluents that affect radiation exposures to plant workers and members of the public. No changes would be made to plant buildings or the site property. Therefore, the proposed action would not result in a change to the radiation exposures to the public or radiation exposure to plant workers.

Accordingly, the NRC concludes that there are no significant environmental impacts associated with the proposed action.

Environmental Impacts of the Alternatives to the Proposed Action

As an alternative to the proposed action, the NRC considered denial of the proposed action (i.e., the “no-action” alternative). Denial of the regulatory exemptions would result in no change in current environmental impacts. Therefore, the environmental impacts of the proposed action and the denial of the exemption request would be similar.

Alternative Use of Resources

There are no unresolved conflicts concerning alternative uses of available resources under the proposed action.

Agencies and Persons Consulted

In accordance with its stated policy, on July 31, 2017, the NRC staff consulted with the Connecticut State official, Mr. Jeffrey Semancik of the Department of Energy and Environmental Protection, regarding the environmental impact of the proposed action. The state official had no comments.

III. Finding of No Significant Impact

The licensee has requested an exemption from specific regulatory requirements to allow the use of OMAs as alternate methods than those specified in section III.G.2 of appendix R of 10 CFR part 50 to achieve and maintain hot shutdown conditions for affected initiating fire areas with consideration of a loss of instrument air. The NRC is considering issuing the requested exemption. The proposed action would not significantly affect plant safety, would not have a significant adverse effect on the probability of an accident occurring, and would not have any significant radiological and non-radiological impacts. This FONSI incorporates by reference the EA in Section II of this notice. Therefore, the NRC concludes that the proposed action will not have a significant effect on the quality of the human environment. Accordingly, the NRC has determined not to prepare an environmental impact statement for the proposed action.

The related environmental document is the “Generic Environmental Impact Statement for License Renewal of Nuclear Plants: Regarding Millstone Power Station, Units 2 and 3—Final Report,” NUREG-1437, Supplement 22. NUREG-1437, Supplement 22 provides the latest environmental review of current operations and description of environmental conditions at Millstone 2.

The finding and other related environmental documents may be examined, and/or copied for a fee, at the NRC's Public Document Room (PDR), located at One White Flint North, 11555 Rockville Pike, Rockville, Maryland 20852. Publicly-available records will be accessible electronically from ADAMS Public Electronic Reading Room on the Internet at the NRC's Web site: http://www.nrc.gov/reading-rm/adams.html.

IV. Availability of Documents

The documents identified in the following table are available to interested persons through one or more of the following methods, as indicated.

Document | ADAMS Accession No./ Web link/ Federal Register Citation
Dominion Nuclear Connecticut, Inc., Millstone Power Station, Unit 2, Proposed Exemption Request from 10 CFR 50, Appendix R, Section III.G, “Fire Protection of Safe Shutdown Capability.” Dated October 28, 2016 | ML16305A330
Dominion Nuclear Connecticut, Inc., Millstone, Unit 2—Request for Exemption from 10 CFR 50, Appendix R, Section III.G, “Fire Protection of Safe Shutdown Capability.” Dated June 30, 2011 | ML11188A213
Dominion Nuclear Connecticut, Inc., Millstone Power Station, Unit 2—Response to Request for Additional Information Request for Exemption from 10 CFR 50, Appendix R, Section III.G, “Fire Protection of Safe Shutdown Capability.” Dated February 29, 2012 | ML12069A016
U.S. Nuclear Regulatory Commission, Millstone Power Station, Unit 2, Correction to Previously Issued Exemption from the Requirements of 10 CFR Part 50, Appendix R, Section III.G.2. (TAC No. ME6693). Dated December 18, 2012 | ML12312A373
U.S. Nuclear Regulatory Commission, NRC Regulatory Issue Summary 2006-010—Regulatory Expectations with Appendix R Paragraph III.G.2 Operator Manual Actions. Dated June 30, 2006 | ML061650389
U.S. Nuclear Regulatory Commission, NUREG-1437, Supplement 22, Generic Environmental Impact Statement for License Renewal of Nuclear Plants: Regarding Millstone Power Station, Units 2 and 3, Final Report Dated July, 2005 | ML051960295

Dated at Rockville, Maryland, this 20th day of September 2017.
For the Nuclear Regulatory Commission.
Richard V. Guzman,
Senior Project Manager, Plant Licensing Branch I, Division of Operating Reactor Licensing, Office of Nuclear Reactor Regulation.

[FR Doc. 2017-20726 Filed 9-27-17; 8:45 am]

BILLING CODE 7590-01-P